DEPARTMENT OF HOMELAND SECURITY

Office of the Secretary

[Docket No. DHS-2019-0001]

DHS Data Privacy and Integrity Advisory Committee

AGENCY: Privacy Office, Department of Homeland Security (DHS).

ACTION: Committee management; notice of Federal Advisory Committee meeting.

SUMMARY: The DHS Data Privacy and Integrity Advisory Committee will meet on Tuesday, February 26, 2019, via teleconference. The meeting will be open to the public.

DATES: The DHS Data Privacy and Integrity Advisory Committee will meet on Tuesday, February 26, 2019, from 9:00 a.m. to 10:30 a.m. Please note that the teleconference may end early if the Committee has completed its business.

ADDRESSES: The meeting will be held via teleconference and an online forum (URL will be posted on the Privacy Office website in advance of the meeting at www.dhs.gov/privacy-advisory-committees). For information on facilities or services for individuals with disabilities, or to request special assistance during the meeting, please contact Sandra Taylor, Designated Federal Officer, DHS Data Privacy and Integrity Advisory Committee, as soon as possible.

To facilitate public participation, we invite public comment on the issues to be considered by the Committee as listed in the Supplementary Information section below. A public comment period will be held during the meeting from 10:15 a.m.-10:30 a.m., and speakers are requested to limit their comments to three minutes. If you would like to address the Committee at the meeting, we request that you register in advance by contacting Sandra Taylor at the address provided below. The names and affiliations, if any, of individuals who address the Committee are included in the public record of the meeting. Please note that the public comment period may end before the time indicated, following the last call for comments. Written comments should be sent to Sandra Taylor, Designated Federal Officer, DHS Data Privacy and Integrity Advisory Committee, by February 21, 2019. Persons who wish to submit comments and who are not able to participate or speak at the meeting may submit comments at any time. All submissions must include the Docket Number (DHS-2019-0001) and may be submitted by any one of the following methods:

• Federal eRulemaking Portal: http://www.regulations.gov. Follow the instructions for submitting comments.

• E-mail: PrivacyCommittee@hq.dhs.gov. Include the Docket Number (DHS-2019-0001) in the subject line of the message.

• Fax: (202) 343-4010.

• Mail: Sandra Taylor, Designated Federal Officer, Data Privacy and Integrity Advisory Committee, Department of Homeland Security, 245 Murray Lane SW, Mail Stop 0655, Washington, DC 20528.

Instructions: All submissions must include the words “Department of Homeland Security Data Privacy and Integrity Advisory Committee” and the Docket Number (DHS-2019-0001). Comments received will be posted without alteration at http://www.regulations.gov, including any personal information provided.

If you wish to attend the meeting, please plan to call in no later than 8:50 a.m. The DHS Privacy Office encourages you to register for the meeting in advance by contacting Sandra Taylor, Designated Federal Officer, DHS Data Privacy and Integrity Advisory Committee, at PrivacyCommittee@hq.dhs.gov. Advance registration is voluntary. The Privacy Act Statement below explains how DHS uses the registration information you may provide and how you may access or correct information retained by DHS, if any.

Docket: For access to the docket to read background documents or comments received by the DHS Data Privacy and Integrity Advisory Committee, go to http://www.regulations.gov and search for docket number DHS-2019-0001.

FOR FURTHER INFORMATION CONTACT: Sandra Taylor, Designated Federal Officer, DHS Data Privacy and Integrity Advisory Committee, Department of Homeland Security, 245 Murray Lane SW, Mail Stop 0655, Washington, DC 20528, by telephone (202) 343-1717, by fax (202) 343-4010, or by email to PrivacyCommittee@hq.dhs.gov.

SUPPLEMENTARY INFORMATION: Notice of this meeting is given under the Federal Advisory Committee Act (FACA), Title 5, U.S.C. The DHS Data Privacy and Integrity Advisory Committee provides advice at the request of the Secretary of Homeland Security and the DHS Chief Privacy Officer on programmatic, policy, operational, administrative, and technological issues within DHS that relate to personally identifiable information, as well as data integrity and other privacy-related matters. The Committee was established by the Secretary of Homeland Security under the authority of 6 U.S.C. 451.

Proposed Agenda

During the meeting, the Committee will review and vote on the Policy Subcommittee's report to the Department providing recommendations on privacy considerations in biometric facial recognition technology. The draft report will be posted on the Committee's website at www.dhs.gov/dhs-data-privacy-and-integrity-advisory-committee-meeting-information in advance of the meeting. If you wish to submit written comments on the draft report, you may do so in advance of the meeting by forwarding them to the Committee at the locations listed under ADDRESSES. The final agenda will be posted on or before February 18, 2019, on the Committee's website at www.dhs.gov/dhs-data-privacy-and-integrity-advisory-committee-meeting-information. Please note that the meeting may end early if all business is completed.

Privacy Act Statement: DHS's Use of Your Information

Authority: DHS requests that you voluntarily submit this information under its following authorities: The Federal Records Act, 44 U.S.C. 3101; the FACA, 5 U.S.C. appendix; and the Privacy Act of 1974, 5 U.S.C. 552a.

Principal Purposes: When you register to attend a DHS Data Privacy and Integrity Advisory Committee meeting, DHS collects your name, contact information, and the organization you represent, if any. We use this information to contact you for purposes related to the meeting, such as to confirm your registration, to advise you of any changes in the meeting, or to assure that we have sufficient materials to distribute to all attendees. We may also use the information you provide for public record purposes such as posting publicly available transcripts and meeting minutes.

Routine Uses and Sharing: In general, DHS will not use the information you provide for any purpose other than the Principal Purposes, and will not share this information within or outside the agency. In certain circumstances, DHS may share this information on a case-by-case basis as required by law or as necessary for a specific purpose, as described in the DHS/ALL-002 Mailing and Other Lists System of Records Notice (November 25, 2008, 73 FR 71659).

Effects of Not Providing Information: You may choose not to provide the requested information or to provide only some of the information DHS requests. If you choose not to provide some or all of the requested information, DHS may not be able to contact you for purposes related to the meeting.

Accessing and Correcting Information: If you are unable to access or correct this information by using the method that you originally used to submit it, you may direct your request in writing to the DHS Deputy Chief FOIA Officer at foia@hq.dhs.gov. Additional instructions are available at http://www.dhs.gov/foia and in the DHS/ALL-002 Mailing and Other Lists System of Records referenced above.

Dated: February 4, 2019.
Philip S. Kaplan,
Chief Privacy Officer, Department of Homeland Security.

[FR Doc. 2019-01682 Filed 2-7-19; 8:45 am]

BILLING CODE 9110-9L-P